DEPARTMENT OF THE INTERIOR

Bureau of Land Management

[WY-100-03-1310-DB]

Notice of Intent To Prepare an Environmental Impact Statement and Provide Notice of Public Meeting, Jonah Infill Drilling Project, Sublette County, WY, and Notice of the Potential for Amendment of the Pinedale Resource Management Plan

AGENCY: Bureau of Land Management, Interior.

ACTION: Notice of Intent (NOI) to prepare an Environmental Impact Statement (EIS) and to conduct public scoping for the Jonah Infill Drilling Project, Sublette County, Wyoming, and Notice of the Potential for Amendment of the Pinedale Resource Management Plan.

SUMMARY: EnCana Oil and Gas (USA) Inc., BP America, and other natural gas development companies (hereinafter referred to as “the Operators”) have submitted to the Bureau of Land Management (BLM) a proposal to expand natural gas exploration and development operations. The Jonah Infill Drilling Project is located in an area known as the Jonah Field, in Sublette County, Wyoming. Under the provisions of section 102(2)(C) of the National Environmental Policy Act (NEPA), the BLM announces its intentions to prepare an EIS and to solicit public comments regarding issues and resource information. Based on the information developed during the course of this analysis, the BLM may decide it is necessary to amend the 1988 Pinedale Resource Management Plan (RMP).

DATES: This notice initiates the public scoping process. The BLM can best use public input if comments and resource information are submitted within 45 days of the Publication of Environmental Protection Agency's (EPA) notice in the Federal Register. A Scoping Notice will be distributed by mail on or about the date of the publication of this notice. Information and a copy of the Scoping Notice may be obtained by writing, or visiting, the BLM Pinedale Field Office, address listed below.

The BLM will host a public meeting within 30 days of the publication of this notice. Information regarding date, time, and location of the meeting will be available from the Pinedale Field Office and posted on its Web site listed at the end of this Notice. All comments received at the public meeting, submitted in writing by mail, or e-mail will aid the BLM in identifying issues, developing a range of alternatives, and analyzing environmental impacts.

ADDRESSES: Address questions and comments to the Pinedale Field Office, PO Box 768, Pinedale, Wyoming 82941, phone number 307-367-5300, or send them electronically to pinedale_wymail@blm.gov. Information and a copy of the Scoping Notice for the Jonah Infill Drilling Project EIS may be obtained by writing or visiting the BLM Pinedale field office. The scoping notice will also be posted on the Wyoming BLM NEPA Web site, http://www.wy.blm.gov/nepa/nepadocs.htm. Written comments may be sent, or hand-delivered, to the BLM Pinedale Field Office, 432 East Mill Street, PO Box 768, Pinedale, WY 82941.

Your response is important and will be considered in the environmental analysis process. If you do respond, we will keep you informed of decisions resulting from this analysis. Please note that public comments and information submitted regarding this project including names, e-mail addresses, and street addresses of the respondents will be available for public review and disclosure at the above address during regular business hours (7:45 a.m. to 4:30 p.m.) Monday through Friday, except holidays. Individual respondents may request confidentiality. If you wish to withhold your name, email address, or street address from public review or from disclosure under the Freedom of Information Act, you must state this prominently at the beginning of your written comment. Such requests will be honored to the extent allowed by the law. All submissions from organizations or businesses, and from individuals identifying themselves as representatives or officials of organizations or businesses, will be made available for public inspection in their entirety.

FOR FURTHER INFORMATION CONTACT: Eldon Allison, Project Manager, BLM, Pinedale Field Office, PO Box 768, Pinedale, Wyoming 82941, telephone 307-367-5300.

SUPPLEMENTARY INFORMATION: The Jonah Infill Drilling Project (JIDP) area is located in south-central Sublette County approximately 32 miles southeast of Pinedale, and 28 miles northwest of Farson, Wyoming. Drilling is proposed in Townships 28 and 29 North, Ranges 107 through 109 West, 6th Principal Meridian.

The operators have submitted to the BLM a proposal to expand exploration and development of natural gas resources in the Jonah Field area, spanning a period of about 25 years. The total project area is approximately 30,200 acres. This acreage includes approximately 28,280 acres of Federal surface and mineral estate managed by BLM; 1,280 acres of State of Wyoming surface and minerals; and 640 acres of private surface ownership. All of the privately owned surface acres are split estate (private surface/Federal minerals) lands.

The operators' original proposal to drill 450 wells in addition to 47 existing wells at the same number of locations was approved by the BLM in the Environmental Assessment, Finding of No Significant Impact and Decision Record for the Modified Jonah Field II Natural Gas Project, March 2000 (Modified Jonah Field II EA). The operators now propose to drill 1,250 additional wells from 850 well locations within the same area analyzed in the Modified Jonah Field II EA. The operators' new proposal is based on a 10 to 20 acre down-hole spacing pattern (32 to 64 wells per aliquot section). The operators propose to explore known productive formations as well as deeper formations that have not been tested. The planned development would include the following associated structures and facilities in addition to the 850 proposed new well locations: needed separators and hydrators, storage tanks, field access and resource roads, a system of gathering and sales pipelines, compressor stations, and five additional water wells.

During the preparation of the EIS, proposed development of additional exploratory wells within the project area on public lands may be approved subject to an environmental review by BLM and to a finding that such development is consistent with the 1988 Pinedale Resource Management Plan (RMP). Such a review will also ensure that the proposed development would not limit the consideration of a range of reasonable alternatives for this proposed Jonah Infill Drilling Project EIS.

The purpose of this project is to extract and recover natural gas from the Jonah Field by allowing the operators to provide clean burning fuel for distribution to consumers. In addition, this project would meet the goals and objectives of the President's National Energy Plan by diversifying domestic energy supplies, improving and accelerating environmental protection, and strengthening America's energy security.

BLM personnel, other agencies, and individuals have preliminarily identified the following issues that will be addressed in the EIS: Air quality; Federally-listed Threatened, Endangered, Candidate and Sensitive Species and their habitats; surface and groundwater resources; short-term revegetation and restoration of disturbed areas and their long-term stabilization, including control of noxious weeds; prehistoric and historic cultural resources; social and economic effects to the local communities; wildlife habitat and fisheries; nesting raptors; wetlands and riparian areas; visual and landscape resources; and recreation activities and opportunities, such as hunting and fishing.

The BLM has identified the following benefits that may be derived from the natural gas development: Increased royalties and tax revenues to local, State, and Federal governments; additional opportunities for employment and economic benefits for communities near the project area; increases in Wyoming's share of new and existing natural gas markets; and development of natural gas resources to assist in attainment of clean air objectives in conformance with Presidential and Congressional directives.

Any authorizations and actions proposed for approval in the EIS will be evaluated to determine if they conform to the decisions in the 1988 Pinedale RMP. Actions that result in a change in the scope of resource uses, terms and conditions, and decisions of the Pinedale RMP may require amendment of the RMP. If the BLM determines that a plan amendment is necessary, preparation of the JIDP EIS and the analysis necessary for the RMP amendment may occur simultaneously. Appropriate analysis will accompany the decision to conduct an RMP amendment.

Also, the Pinedale RMP is currently being revised, with completion scheduled for October 2004. Because the Jonah Infill Drilling Project EIS and the Pinedale RMP revision will be developed on overlapping schedules, the information and analysis needed for these planning efforts will be jointly prepared and used for both EISs, to the greatest extent possible. Further information of the status of this RMP revision may be obtained from the Web site at http://www.pinedalermp.com.

The BLM will announce public meetings and comment periods through local news media and the Pinedale Field Office Web site, http://www.wy.blm.gov/pfo/info.htm, at least 15 days prior to the event. The first in a series of meetings is tentatively scheduled for late March 2003, in Pinedale, Wyoming. The BLM will also provide additional opportunities for public participation throughout the preparation of the EIS.

Dated: February 13, 2003.
Robert A. Bennett,
State Director.

[FR Doc. 03-6084 Filed 3-12-03; 8:45 am]

BILLING CODE 4310-22-P